FEDERAL MEDIATION AND CONCILIATION SERVICE

Modification to FMCS Commercial Receivables Process

AGENCY: Federal Mediation and Conciliation Service (FMCS).

ACTION: Notice of payment method for FMCS services and/or products.

SUMMARY: The Federal Mediation and Conciliation Service (FMCS), is issuing this notice to inform the public that it is modifying its commercial receivables process to require payment through Pay.gov. This requirement will enable FMCS to reduce check processing costs to the agency.

DATES: This change to the payment process is effective August 26, 2022.

FOR FURTHER INFORMATION CONTACT: Will Shields, 202-606-3635, wshields@fmcs.gov.

SUPPLEMENTARY INFORMATION: FMCS is an independent federal agency tasked by Congress to provide mediation, conciliation, and voluntary arbitration services in the private and federal sectors. In service of its mission, non-federal sources reimburse FMCS for certain expenses including, but not limited to, processing FOIA requests under 29 CFR 1401; requests for arbitrator panels, under 29 CFR 1404; and labor relations training. Commercial receivables are typically paid in the form of physical checks sent to the agency and processed by Treasury's Administrative Resource Center (ARC), which charges FMCS a processing fee per transaction.

In 2023, FMCS expects to receive more than 6,000 commercial receivables. The costs associated with processing commercial receivables has necessitated FMCS to move to Pay.gov. If Pay.gov submission creates an undue hardship, payees may contact payments@fmcs.gov to explain the circumstances and receive assistance.

Dated: August 22, 2022.
Anna Davis,
Deputy General Counsel.

[FR Doc. 2022-18372 Filed 8-25-22; 8:45 am]

BILLING CODE 6732-01-P